DEPARTMENT OF EDUCATION

[Docket ID: ED-2013-OELA-0107]

Request for Information To Inform the Title III Technical Assistance Agenda and the Future Activities and Services of The National Clearinghouse for English Language Acquisition (NCELA)

AGENCY: Office of English Language Acquisition, Language Enhancement, and Academic Achievement for Limited English Proficient Students, Department of Education.

ACTION: Request for information; notice to reopen the public comment period.

SUMMARY: On September 5, 2013, we published in the Federal Register an RFI that established a September 25, 2013, deadline for the submission of written comments. We are reopening the public comment period to give interested parties additional time to submit written comments.

DATES: Written submissions must be received by the Department on or before November 12, 2013.

ADDRESSES: Submit your comments through the Federal eRulemaking Portal or via U.S. mail, commercial delivery, or hand delivery. We will not accept comments submitted by fax or by email or those submitted after the comment period. To ensure that we do not receive duplicate copies, please submit your comments only once. In addition, please include the Docket ID and the term “Technical Assistance-NCELA” at the top of your comments.

• Federal eRulemaking Portal: Go to www.regulations.gov to submit your comments electronically. Information on using Regulations.gov, including instructions for accessing agency documents, submitting comments, and viewing the docket, is available on the site under “Are you new to the site.”

• U.S. Mail, Commercial Delivery, or Hand Delivery: If you mail or deliver your comments about this RFI, address them to Melissa Escalante, U.S. Department of Education, Office of English Language Acquisition, 400 Maryland Avenue SW., Room 5C148, Washington, DC 20202-6132.

• Privacy Note: The Department's policy is to make all comments received from members of the public available for public viewing in their entirety on the Federal eRulemaking Portal at www.regulations.gov. Therefore, commenters should be careful to include in their comments only information that they wish to make publicly available.

Submission of Proprietary Information: Given the subject matter, some comments may include proprietary information as it relates to confidential commercial information. The Freedom of Information Act defines “confidential commercial information” as information the disclosure of which could reasonably be expected to cause substantial competitive harm. You may wish to request that we not disclose what you regard as confidential commercial information.

To assist us in making a determination on your request, we encourage you to identify any specific information that you consider confidential commercial information. Please list the information by page and paragraph numbers.

This Request for Information (RFI) is issued solely for information and planning purposes and is not a request for proposals (RFP), a promise to issue an RFP, or a notice inviting applications (NIA), nor does it serve as a modification to the current NCELA contract. This RFI does not commit the Department to contract for any supply or service whatsoever. Further, the Department is not now seeking proposals and will not accept unsolicited proposals. The Department will not pay for any information or administrative costs that you may incur in responding to this RFI.

If you do not respond to this RFI, you may still apply for future contracts and grants. The Department posts RFPs on the Federal Business Opportunities Web site (www.fbo.gov). The Department announces grant competitions in the Federal Register (www.gpo.gov/fdsys). It is your responsibility to monitor these sites to determine whether the Department issues an RFP or NIA after considering the information received in response to this RFI.

The documents and information submitted in response to this RFI become the property of the U.S. Government and will not be returned.

FOR FURTHER INFORMATION CONTACT: Melissa Escalante, U.S. Department of Education, 400 Maryland Avenue SW., Room 5C148, Washington, DC 20202-6132 by phone at 202-401-1407.

If you use a telecommunications device for the deaf (TDD) or a text telephone (TTY), call the Federal Relay Service (FRS), toll free, at 1 (800) 877-8339.

SUPPLEMENTARY INFORMATION:

Background

On September 5, 2013, we published an RFI in the Federal Register (78 FR 54638) to collect information in two intertwining areas in support of the English learner community. First, the Department seeks information on the technical assistance needs of State educational agencies (SEAs), local educational agencies (LEAs), administrators, and teachers who provide services to English learners (ELs). Second, the Department seeks information on how we can best disseminate technical assistance, including materials through the National Clearinghouse for English Language Acquisition and Language Instruction Educational programs (NCELA) in support of the EL community and those who provide services to ELs. The September fifth publication provided some helpful questions that could assist commenters in preparing their comments. See 78 FR 54638. The deadline for written submissions during the initial comment period was September 25, 2013. We are reopening the comment period for written submissions in response to the RFI notice through November 12, 2013. We are reopening the comment period to maximize opportunities for the public to provide input on the National Clearinghouse and our technical assistance agenda for English learners and those who support them.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at this site.

You may also access documents of the Department published in the Federal Register by using the article search feature at: www.federalregister.gov. Specifically, through the advanced search feature at this site, you can limit your search to documents published by the Department.

Dated: October 28, 2013.
Libia Socorro Gil,
Assistant Deputy Secretary and Director for English Language Acquisition, Language Enhancement and Academic Achievement for Limited English Proficient Students.

[FR Doc. 2013-26008 Filed 10-30-13; 8:45 am]

BILLING CODE 4000-01-P